SECURITIES AND EXCHANGE COMMISSION

[Release No. 34-83398; File No. SR-FINRA-2018-013]

Self-Regulatory Organizations; Financial Industry Regulatory Authority, Inc.; Notice of Designation of Longer Period for Commission Action on a Proposed Rule Change To Establish a Second Trade Reporting Facility in Conjunction With Nasdaq, Inc.

June 8, 2018.

On April 19, 2018, the Financial Industry Regulatory Authority, Inc. (“FINRA”) filed with the Securities and Exchange Commission (“Commission”), pursuant to Section 19(b)(1) of the Securities Exchange Act of 1934 (“Act”) ¹ and Rule 19b-4 thereunder,² a proposed rule change to establish a second Trade Reporting Facility to be operated in conjunction with Nasdaq, Inc. The proposed rule change was published for comment in the Federal Register on April 26, 2018.³ The Commission received no comment letters on the proposal.

¹ 15 U.S.C. 78s(b)(1).

² 17 CFR 240.19b-4.

³ See Securities Exchange Act Release No. 83082 (April 20, 2018), 83 FR 18379 (“Notice”).

Section 19(b)(2) of the Act ⁴ provides that, within 45 days of the publication of the notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The 45th day for this filing is June 10, 2018. The Commission is extending this 45-day time period.

⁴ 15 U.S.C. 78s(b)(2).

The Commission has determined that it is appropriate to designate a longer period within which to take action on the proposed rule change so that it has sufficient time to consider the issues raised by the proposed rule change. Accordingly, pursuant to Section 19(b)(2) of the Act,⁵ the Commission designates July 25, 2018, as the date by which the Commission shall either approve, disapprove, or institute proceedings to determine whether to disapprove the proposed rule change (File No. SR FINRA-2018-013).

⁵ Id.

For the Commission, by the Division of Trading and Markets, pursuant to delegated authority.⁶
⁶ 17 CFR 200.30-3(a)(31).
Eduardo A. Aleman,
Assistant Secretary.

[FR Doc. 2018-12753 Filed 6-13-18; 8:45 am]

BILLING CODE 8011-01-P